DEPARTMENT OF ENERGY

Federal Energy Regulatory Commission

[Project No. P-2197-073]

Alcoa Power Generating, Inc.; Errata Notice and Revised Schedule

June 9, 2006.

On May 10, 2006 the Commission issued a “Notice of Application Tendered for Filing” in the above-referenced proceeding. This Errata makes the following corrections to the notice:

(1) Under letter n., paragraph 4, item (8), the number, “447,150 kW,” should be replaced with the number, “107,780 kW,” to report the total installed capacity of the Narrows Development.

(2) Under letter n., paragraph 6, the last sentence should be replaced with the following sentences: “According to a 1968 Headwaters Benefits Settlement, APGI is to operate High Rock Reservoir such that regulated weekly average stream flow would be reduced to a flow not less than 1,500 cfs during the ten week period preceding May 15; 1,610 cfs during the period May 15 through July 1; and 1,400 cfs during the period July 1 through September 15. During the 2002 drought, APGI and Progress Energy agreed, in a regional Emergency Drought Management Protocol (now expired), to operate the projects so as to achieve a daily average flow of 900 cfs at the Rockingham, North Carolina U.S. Geological Survey gage.”

(3) Under letter q. Procedural Schedule: The table is revised as follows:

Milestone | Target date
Tendering Notice | May 10, 2006.
File Additional Study Requests | June 26, 2006.
Additional Information Requests (if necessary) | July 2006.
Issue Acceptance Letter and Solicit Interventions | Oct. 2006.
Issue Scoping Document 1 for Comments | Nov. 2006.
Hold Scoping Meetings | Jan. 2006.
Request Additional Information (if necessary) | March 2007.
Issue Scoping Document 2 (if necessary) | March 2007.
Notice of Application Ready for Environmental Analysis | April 2007.
Filing of Recommendations, Preliminary Terms and Conditions, and Fishway Prescriptions | June 2007.
Notice of Availability of Draft EA or EIS | Sept. 2007.
Comments on Draft EA or EIS and Modified Terms and Conditions | Nov. 2007.
Notice of Availability of Final EA or EIS | March 2008.
Ready for Commission Decision on the Application | April 2008.

Magalie R. Salas,
Secretary.

[FR Doc. E6-9392 Filed 6-15-06; 8:45 am]

BILLING CODE 6717-01-P